DEPARTMENT OF THE INTERIOR

Office of Surface Mining Reclamation and Enforcement

Availability of Final Petition Evaluation Document/Environmental Impact Statement on Fall Creek Falls, TN

AGENCY: Office of Surface Mining Reclamation and Enforcement, Interior.

ACTION: Notice of availability of the final Petition Evaluation Document/Environmental Impact Statement (PED/EIS) for Fall Creek Falls Lands Unsuitable for Mining Petition.

SUMMARY: The Office of Surface Mining (OSM) of the United States Department of the Interior is making available a final PED/EIS for a petition to designate Fall Creek Falls State Park and Natural Area and certain lands in the watershed and viewshed of Fall Creek Falls State Park and Natural Area, Van Buren and Bledsoe Counties, Tennessee, as unsuitable for all surface coal mining operations. The PED/EIS has been prepared to assist the Secretary of the Interior in making a decision on the petition to designate the Fall Creek Falls State Park and Natural Area and certain lands in the watershed and viewshed of Fall Creek Falls State Park and Natural Area as unsuitable for surface coal mining operations.

ADDRESSES: Copies of the final PED/EIS may be obtained by contacting Beverly Brock at the address and telephone number listed under FOR FURTHER INFORMATION CONTACT. A copy of the final PED/EIS is available for inspection at that address, and also at the Bledsoe and Van Buren County Clerk's offices.

FOR FURTHER INFORMATION CONTACT: Beverly Brock, Supervisor, Technical Group, Office of Surface Mining, 530 Gay Street, S.W., Suite 500, Knoxville, Tennessee 37902. Telephone: (865) 545-4103, ext. 146; e-mail: bbrock@osmre.gov.

SUPPLEMENTARY INFORMATION: OSM has been petitioned by Save Our Cumberland Mountains, Tennessee Citizens for Wilderness Planning, and 49 citizens to designate the watershed and viewshed of Fall Creek Falls State Park and Natural Area, Tennessee, as unsuitable for all types of surface coal mining operations. OSM began to process the petition on October 5, 1995, and on May 1, 1998, OSM made available the draft PED/EIS for a 90-day public review and comment period. Two subsequent comment periods were opened from August 21, 1998, to September 16, 1998, and from January 29, 1999, to April 29, 1999.

The final PED/EIS was prepared by OSM in accordance with Section 522(d) of the Surface Mining Control and Reclamation Act of 1977 (SMCRA) and Section 102(2)(c) of the National Environmental Policy Act of 1969 (NEPA). OSM has analyzed the petitioners' proposed action of designating the entire petition area as unsuitable for surface coal mining operations and four alternative actions ranging from denying the petition in whole to designating certain portions of the petition area as unsuitable for mining.

In preparing the final PED/EIS, OSM has revised the draft PED/EIS in response to comments received during the public comment periods. These comments and OSM's responses to them are included in the final PED/EIS.

No decision will be made on the petition by the Secretary of the Interior until at least 30 days from the date the final PED/EIS is made available to the public. Notice of such decision by the Secretary of the Interior will be made available to the public at that time.

Dated: February 8, 2000.
Allen D. Klein,
Director, Appalachian Regional Coordinating Center.

[FR Doc. 00-5030 Filed 3-2-00; 8:45 am]

BILLING CODE 4310-05-M